DEPARTMENT OF STATE

[Public Notice 4740]

Shipping Coordinating Committee—Notice of Meeting

The Shipping Coordinating Committee (SHC) will conduct an open meeting at 9 a.m. on Wednesday, June 15, 2005, in Room 6319 of the United States Coast Guard Headquarters Building, 2100 2nd Street, SW., Washington, DC 20593-0001. The primary purpose of the meeting is to continue our preparations for the 48th Session of the International Maritime Organization (IMO) Sub-Committee on Stability and Load Lines and on Fishing Vessels Safety to be held at IMO Headquarters in London, England from September 12th to 16th.

The primary matters to be considered include:

—Development of explanatory notes for harmonized SOLAS Chapter II-1;

—Passenger ship safety;

—Review of the Intact Stability Code;

—Review of the Offshore Supply Vessel Guidelines;

—Harmonization of damage stability provisions in other IMO instruments;

—Revision of technical regulations of the 1966 LL Convention;

—Tonnage measurement of open-top containerships.

Members of the public may attend this meeting up to the seating capacity of the room. Interested persons may seek information by writing to Mr. Paul Cojeen, Commandant (G-MSE), U.S. Coast Guard Headquarters, 2100 Second Street, SW., Room 1308, Washington, DC 20593-0001 or by calling (202) 267-2988.

Dated: May 4, 2005.
Clay L. Diamond,
Executive Secretary, Shipping Coordinating Committee, Department of State.

[FR Doc. 05-9598 Filed 5-12-05; 8:45 am]

BILLING CODE 4710-07-P